FEDERAL COMMUNICATIONS COMMISSION

47 CFR Part 73

[DA 04-3807; MB Docket No. 04-429, RM-11120]

Radio Broadcasting Services; Burlington and Cary, NC

AGENCY: Federal Communications Commission.

ACTION: Proposed rule.

SUMMARY: This document sets forth a proposal to amend the FM Table of Allotments, § 73.202(b) of the Commission's rules, 47 CFR 73.202(b). The Commission requests comment on a petition filed by Capstar TX Limited Partnership, licensee of Station WRSN-FM, Channel 230C, Burlington, North Carolina. Petitioner proposes the deletion of Channel 230C at Burlington, North Carolina, and the addition of Channel 230C at Cary, North Carolina, as a first local service. Channel 230C can be allotted at Cary in compliance with the Commission's minimum distance separation requirements with a site restriction of 35.4 kilometers (22.0 miles) from Cary. The proposed coordinates for Channel 230C at Cary are 35-52-15 North Latitude and 79-09-40 West Longitude. See SUPPLEMENTARY INFORMATION infra.

DATES: Comments must be filed on or before January 31, 2005, and reply comments on or before February 15, 2005.

ADDRESSES: Federal Communications Commission, Washington, DC 20554. In addition to filing comments with the FCC, interested parties should serve counsel for the petitioner as follows: Mark N. Lipp, Esq. and J. Thomas Nolan, Esq., Vinson & Elkins, L.L.P., 1455 Pennsylvania Avenue, NW., Suite 600, Washington, DC 20004-1008.

FOR FURTHER INFORMATION CONTACT: Deborah A. Dupont, Media Bureau (202) 418-7072.

SUPPLEMENTARY INFORMATION: This is a synopsis of the Commission's Notice of Proposed Rule Making, MB Docket No. 04-429, adopted December 8, 2004, and released December 10, 2004. The full text of this Commission decision is available for inspection and copying during normal business hours in the FCC Reference Information Center (Room CY-A257), 445 12th Street, SW., Washington, DC. The complete text of this decision may also be purchased from the Commission's copy contractor, Best Copy and Printing, Inc., 445 12th Street, SW, Room CY-B402, Washington, DC, 20554, (800) 378-3160, or via the company's Web site, www.bcpiweb.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under North Carolina, is amended by removing Channel 230C at Burlington, and by adding Cary, Channel 230C.

Federal Communications Commission.
John A. Karousos,
Assistant Chief, Audio Division, Media Bureau.

[FR Doc. 04-28416 Filed 12-28-04; 8:45 am]

BILLING CODE 6712-01-P